DEPARTMENT OF JUSTICE

Bureau of Alcohol, Tobacco, Firearms and Explosives

[OMB Number 1140-0067]

Agency Information Collection Activities: Proposed Collection; Comments Requested; Licensed Firearms Manufacturers Records of Production, Disposition, and Supporting Data

ACTION: 30-Day notice of information collection.

The Department of Justice (DOJ), Bureau of Alcohol, Tobacco, Firearms and Explosives (ATF), will be submitting the following information collection request to the Office of Management and Budget (OMB) for review and approval in accordance with the Paperwork Reduction Act of 1995. The proposed information collection is published to obtain comments from the public and affected agencies. This proposed information collection was previously published in the Federal Register Volume 76, Number 220, Page 70756, on Tuesday, November 15, 2011, allowing for a 60 day comment period.

The purpose of this notice is to allow for an additional 30 days for public comment until February 21, 2012. This process is conducted in accordance with 5 CFR 1320.10.

Written comments concerning this information collection should be sent to the Office of Information and Regulatory Affairs, Office of Management and Budget, Attn: DOJ Desk Officer. The best way to ensure your comments are received is to email them to oira_submission@omb.eop.gov or fax to (202) 395-7285. All comments should reference the eight digit OMB number for the collection or the title of the collection. If you have questions concerning the collection, please contact Nicholas O'Leary, nicholas.oleary@atf.gov phone: (202) 648-7264 or the DOJ Desk Officer at (202) 395-3176.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Summary of Information Collection

(1) Type of Information Collection: Extension of a currently approved collection.

(2) Title of the Form/Collection: Licensed Firearms Manufacturers Records of Production, Disposition, and Supporting Data.

(3) Agency form number, if any, and the applicable component of the Department of Justice sponsoring the collection, Form Number: None. Bureau of Alcohol, Tobacco, Firearms and Explosives.

(4) Affected public who will be asked or required to respond, as well as a brief abstract: Primary: Business or other for-profit. Other: None.

Need for Collection

Firearms manufacturers records are permanent records of all firearms manufactured and records of their disposition. These records are vital to support ATF's mission to inquire into the disposition of any firearm in the course of a criminal investigation.

(5) An estimate of the total number of respondents and the amount of time for an average respondent to respond: It is estimated that 1,694 respondents will take 3 minutes to maintain the records.

(6) An estimate of the total public burden (in hours) associated with the collection: There are an estimated 76,611 annual total burden hours associated with this collection.

If additional information is required contact: Jerri Murray, Department Clearance Officer, Policy and Planning Staff, Justice Management Division, United States Department of Justice, Two Constitution Square, Room 2E-508, 145 N Street NE., Washington, DC 20530.

Jerri Murray,
Department Clearance Officer, PRA U.S. Department of Justice.

[FR Doc. 2012-1062 Filed 1-19-12; 8:45 am]

BILLING CODE 4410-FY-P